DEPARTMENT OF DEFENSE

Office of the Secretary

[Docket ID DoD-2014-OS-0121]

Submission for OMB Review; Comment Request

ACTION: Notice.

SUMMARY: The Department of Defense has submitted to OMB for clearance, the following proposal for collection of information under the provisions of the Paperwork Reduction Act.

DATES: Consideration will be given to all comments received by December 1, 2014.

FOR FURTHER INFORMATION CONTACT: Fred Licari, 571-372-0493.

SUPPLEMENTARY INFORMATION: Title, Associated Form and OMB Number: Application for Correction of Military Record Under the Provisions of Title 10, U.S. Code, Section 1552; DD Form 149; OMB Control Number 0704-0003.

Type of Request: Revision.

Number of Respondents: 36,110.

Responses per Respondent: 1.

Annual Responses: 36,100.

Average Burden per Response: 30 minutes.

Annual Burden Hours: 18,055.

Needs and Uses: This information collection requirement is necessary for all Service personnel (current and former Service members) to apply to their respective Military Department Boards for Correction of Military Records (BCMR) for a correction of an error or injustice in their military records under Title 10, United States Code § 1552. The BCMRs of the Military Departments are the highest administrative boards and appellate review authorities in the Services for the resolution of military personnel disputes. The Military Department Secretaries, acting through the BCMRs, have broad powers and are duty bound to correct records if an error or injustice exists. The range of issues includes, but is not limited to, awards, clemency petitions (of courts-martial sentences), disabilities, evaluation reports, home of record, memoranda of reprimands, promotions, retirements, separations, survivor benefit plans, and titling decisions by law enforcement authorities.

Information collection is needed to provide current and former Service members with a method through which to request correction of a military record and to provide the Services with the basic data needed to process the request.

Affected Public: Individuals or households.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: October 24, 2014.
Aaron Siegel,
Alternate OSD Federal Register Liaison Officer, Department of Defense.

[FR Doc. 2014-25744 Filed 10-29-14; 8:45 am]

BILLING CODE 5001-06-P